DEPARTMENT OF DEFENSE

Department of the Army

Performance Review Boards Membership

AGENCY: Department of the Army, DoD.

ACTION: Notice.

SUMMARY: Notice is given of the names of members of a Performance Review Board for the Department of the Army.

EFFECTIVE DATE: November 18, 2002.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

(a) The members of the Performance Review Board for the U.S. Army Research Laboratory are:

1. Dr. N. Radhakrishnan, Director, Computational and Information Sciences Directorate, U.S. Army Research Laboratory.

2. Ms. Barbara Leiby, Deputy Chief of Staff for Resource Management, Headquarters, U.S. Army Materiel Command.

3. Dr. Thomas H. Killion, Director, Personnel Technologies Directorate, Office of the Deputy Chief of Staff, G-1, Headquarters Department of the Army.

(b) Alternate members for the U.S. Army Research Laboratory are:

1. Ms. Kathy A. Kurke, Chief Counsel, NASA-Langley Research Center.

2. Mr. Richard E. McClelland, Director, Tank-Automotive Research, Development and Engineering Center.

3. Dr. C.I. Change, Director, Army Research Office and Deputy Director for Basic Science, U.S. Army Research Laboratory.

(c) The members of the Performance Review Board for the U.S. Army Corps of Engineers are:

1. Major General Hans Van Winkle, Deputy Chief of Engineers/Deputy Commanding General.

2. Major General Robert Griffin, Director of Civil Works.

3. Brigadier General Steven Hawkins, Commanding General, U.S. Army Engineer Division, Great Lakes and Ohio River.

4. Brigadier General David Fastabend, Commanding General U.S. Army Engineer Division, Northwestern.

5. Dr. Michael O'Connor, Director of Research and Development, Headquarters.

6. Mr. William Brown, Principal Assistance for Military Program, Headquarters.

7. Ms. Linda Garvin, Director of Real Estate, Headquarters.

8. Mr. Steve Browning, Military and Technical Director, South Pacific Division.

9. Mr. Donald Basham, Civil Works and Management Director, Mississippi Valley Division.

Luz D. Ortiz,
Army Federal Register Liaison Officer.

[FR Doc. 02-29882 Filed 11-22-02; 8:45 am]

BILLING CODE 3710-08-M